DEPARTMENT OF TRANSPORTATION

Federal Aviation Administration

14 CFR Part 39

[Docket No. FAA-2006-24255; Directorate Identifier 2006-CE-25-AD; Amendment 39-14720; AD 2006-16-20]

RIN 2120-AA64

Airworthiness Directives; DG Flugzeugbau GmbH Model DG-1000S Sailplanes

AGENCY: Federal Aviation Administration (FAA), Department of Transportation (DOT).

ACTION: Final rule.

SUMMARY: We are adopting a new airworthiness directive (AD) for all DG Flugzeugbau GmbH Model DG-1000S sailplanes. This AD requires you to modify the elevator control at the stabilizer assembly, replace a placard on the fin, and incorporate changes in the FAA-approved sailplane flight manual (SFM). This AD results from mandatory continuing airworthiness information (MCAI) issued by the airworthiness authority for Germany. We are issuing this AD to prevent the rigging of the horizontal stabilizer without properly connecting the elevator, which, if not prevented, could lead to an inoperative elevator. An inoperative elevator could lead to loss of control of the sailplane.

DATES: This AD becomes effective on September 18, 2006.

As of September 18, 2006, the Director of the Federal Register approved the incorporation by reference of certain publications listed in the regulation.

ADDRESSES: For service information identified in this AD, contact DG-Flugzeugbau, Postbox 41 20, D-76625 Bruchsal, Federal Republic of Germany; telephone: ++49 7257 890; facsimile: ++45 7257 8922; e-mail: http://www.dg-flugzeugbau.de.

To view the AD docket, go to the Docket Management Facility; U.S. Department of Transportation, 400 Seventh Street, SW., Nassif Building, Room PL-401, Washington, DC 20590-001 or on the Internet at http://dms.dot.gov. The docket number is FAA-2006-24255; Directorate Identifier 2006-CE-25-AD.

FOR FURTHER INFORMATION CONTACT: Gregory Davison, Glider Project Manager, ACE-112, Small Airplane Directorate, 901 Locust, Room 301, Kansas City, Missouri 64106; telephone: (816) 329-4130; facsimile: (816) 329-4090.

SUPPLEMENTARY INFORMATION:

Discussion

On May 9, 2006, we issued a proposal to amend part 39 of the Federal Aviation Regulations (14 CFR part 39) to include an AD that would apply to all DG Flugzeugbau GmbH Model DG-1000S sailplanes. This proposal was published in the Federal Register as a notice of proposed rulemaking (NPRM) on May 16, 2006 (71 FR 28287). The NPRM proposed to require you to modify the elevator control at the stabilizer assembly, replace a placard on the fin, and incorporate changes in the FAA-approved SFM.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 8 sailplanes in the U.S. registry.

We estimate the following costs to do the modification and replacement of the placard on the fin:

Labor cost | Parts cost | Total cost per sailplane | Total cost on U.S. operators
2 work-hours × $80 per hour = $160 | $60 | $220 | 8 × $220 = $1,760

We estimate the following costs to do the incorporation of changes in the FAA-approved SFM:

Labor cost | Parts cost | Total cost per sailplane | Total cost on U.S. operators
1 work-hour × $80 per hour = $80 | Not applicable | $80 | 8 × $80 = $640

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-24255; Directorate Identifier 2006-CE-25-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2006-16-20 DG Flugzeugbau GMBH: Amendment 39-14720; Docket No. FAA-2006-24255; Directorate Identifier 2006-CE-25-AD.

Effective Date

(a) This AD becomes effective on September 18, 2006.

Affected ADs

(b) None.

Applicability

(c) This AD affects all Model DG-1000S sailplanes, all serial numbers, that are certificated in any category.

Unsafe Condition

(d) This AD results from mandatory continuing airworthiness information (MCAI) issued by the airworthiness authority for Germany. We are issuing this AD to prevent the rigging of the horizontal stabilizer without properly connecting the elevator, which, if not prevented, could lead to an inoperative elevator. An inoperative elevator could lead to loss of control of the sailplane.

Compliance

(e) To address this problem, you must do the following:

Actions | Compliance | Procedures
(1) Modify the elevator control at the stabilizer assembly as follows: (i) Replace the rod-end, part number (P/N) 5St94 (or FAA-approved equivalent P/N), with a rod-end 5St94 modified to P/N 10St97/1 (or an FAA-approved equivalent P/N); (ii) Install deflector part number 10St97/2 (or an FAA-approved equivalent P/N); and (iii) Replace the placard on the fin. | Within the next 25 hours time-in-service (TIS) after September 18, 2006 (the effective date of this AD) | Follow DG Flugzeugbau GmbH Technical Note No. 413/3, dated April 28, 2004.
(2) The parts that this AD requires to be replaced as well as those to be installed could have replacement parts approved under 14 CFR 21.303. Any such parts approved per this regulation and installed are subject to the actions of this AD. In addition, nothing in this AD prevents the installation of such alternatively approved parts provided they meet current airworthiness standards including those actions cited in this AD | Not Applicable | Not Applicable.
(3) Incorporate changes in the FAA-approved sailplane flight manual, as specified in paragraph 6a) of the Instructions section of DG Flugzeugbau GmbH Technical Note No. 413/3, dated April 28, 2004 | Within the next 25 hours TIS after the effective date of this AD | The owner/operator holding at least a private pilot certificate as authorized by section 43.7 of the Federal Aviation Regulations (14 CFR 43.7) may do the flight manual change requirement of this AD. Make an entry in the aircraft records showing compliance with this portion of the AD following section 43.9 of the Federal Aviation Regulations (14 CFR 43.9).
(4) Do not install any rod end P/N 5St94 (or FAA-approved equivalent P/N) unless it is modified to DG Flugzeugbau GmbH rod-end P/N 10St97/1 (or FAA-approved equivalent P/N) | As of September 18, 2006 (the effective date of this AD) | Not Applicable.

Alternative Methods of Compliance (AMOCs)

(f) The Manager, Standards Office, Small Airplane Directorate, FAA, ATTN: Gregory Davison, Glider Project Manager, ACE-112, Small Airplane Directorate, 901 Locust, Room 301, Kansas City, Missouri 64106; telephone: (816) 329-4130; facsimile: (816) 329-4090, has the authority to approve AMOCs for this AD, if requested using the procedures found in 14 CFR 39.19.

Related Information

(g) German AD Number D-2004-300, dated June 15, 2004, also addresses the subject of this AD.

Material Incorporated by Reference

(h) You must do the actions required by this AD following the instructions in DG Flugzeugbau GmbH Technical Note No. 413/3, dated April 28, 2004. The Director of the Federal Register approved the incorporation by reference of this service bulletin in accordance with 5 U.S.C. 552(a) and 1 CFR part 51. To get a copy of this service information, contact DG-Flugzeugbau, Postbox 41 20, D-76625 Bruchsal, Federal Republic of Germany; telephone: ++49 7257 890; facsimile: ++45 7257 8922; e-mail: http://www.dg-flugzeugbau.de. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2006-24255; Directorate Identifier 2006-CE-25-AD.

Issued in Kansas City, Missouri, on August 4, 2006.
John R. Colomy,
Acting Manager, Small Airplane Directorate, Aircraft Certification Service.

[FR Doc. E6-13135 Filed 8-11-06; 8:45 am]

BILLING CODE 4910-13-P